ENVIRONMENTAL PROTECTION AGENCY

[EPA-HQ-OAR-2022-0883; FRL11863-01-OMS]

Agency Information Collection Activities; Submission to the Office of Management and Budget for Review and Approval; Comment Request; Greenhouse Gas Reporting Program (Renewal)

AGENCY: Environmental Protection Agency (EPA).

ACTION: Notice.

SUMMARY: The Environmental Protection Agency has submitted an information collection request (ICR), Greenhouse Gas Reporting Program (EPA ICR Number 2300.20, OMB Control Number 2060-0629) to the Office of Management and Budget (OMB) for review and approval in accordance with the Paperwork Reduction Act. This is a proposed extension of the ICR, which is currently approved through March 31, 2024. Public comments were previously requested via the Federal Register on May 4, 2023, during a 60-day comment period. This notice allows for an additional 30 days for public comments.

DATES: Comments must be submitted on or before April 29, 2024.

ADDRESSES: Submit your comments, referencing Docket ID No. EPA-HQ-OAR-2022-0883, to EPA online using http://www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Joe Ford, Climate Change Division, Office of Atmospheric Protection, Office of Air and Radiation (Mail Code 6207A), Environmental Protection Agency, 1200 Pennsylvania Ave. NW, Washington, DC 20460; telephone number: 202-564-7659; fax number: 202-343-2342; email address: ford.joe@epa.gov.

SUPPLEMENTARY INFORMATION: This is a proposed extension of the ICR, which is currently approved through March 31, 2024. An agency may not conduct or sponsor and a person is not required to respond to a collection of information unless it displays a currently valid OMB control number.

Public comments were previously requested via the Federal Register on May 4, 2023, during a 60-day comment period (88 FR 28546). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In response to the FY2008 Consolidated Appropriations Act (H.R. 2764; Pub. L. 110-161) and under authority of the Clean Air Act, the EPA finalized the Mandatory Reporting of Greenhouse Gases Rule (GHG Reporting Rule) (74 FR 56260; October 30, 2009). The GHG Reporting Rule, which became effective on December 29, 2009, establishes reporting requirements for certain large facilities and suppliers. It does not require control of greenhouse gases. Instead, it requires that sources emitting greenhouse gases, supplying certain products that contain greenhouse gases, or injecting carbon dioxide (CO2) underground in quantities above certain threshold levels, to monitor and report annual emissions in amounts of carbon dioxide equivalent (CO2e).

Subsequent rules have promulgated requirements for additional facilities, suppliers, and mobile sources; provided clarification and corrections to existing requirements; finalized CBI determinations; amended recordkeeping requirements; and implemented an alternative verification approach. Collectively, the GHG Reporting Rule and its associated rulemakings are referred to as the Greenhouse Gas Reporting Program (GHGRP).

The purpose for this ICR is to renew and revise the GHG Reporting Rule ICR to update and consolidate the burdens and costs imposed by the current ICR under the GHGRP.

Form Numbers: None.

Respondents/affected entities: Facilities emitting GHGs, supplying certain products that contain GHGs, or injecting CO2 underground in quantities above certain threshold levels of CO2e.

Respondent's obligation to respond: Mandatory (42 U.S.C. 7401-7671q).

Estimated number of respondents (annual average): 12,434.

Frequency of response: Annually.

Total estimated burden: 705,554 hours (per year). Burden is defined at 5 CFR 1320.03(b).

Total estimated cost: $95,175,521 (per year), which includes $33,282,257 annualized capital or operation & maintenance costs.

Changes in Estimates: There is a decrease of 34,458 hours in the total estimated respondent burden compared with that identified in the last ICR renewal. Furthermore, the annual public reporting and recordkeeping burden for this collection of information is estimated to average 0.07 hours per response. The last ICR estimated an average burden of 0.08 hours per response. This change in burden reflects an adjustment in the number of respondents from projected to actual and an adjustment of labor rates, capital, and operation and maintenance (O&M) costs to reflect 2021 dollars. Burden means the total time, effort, or financial resources expended by persons to generate, maintain, retain, disclose, or provide information to or for a Federal Agency. This includes the time needed to review instructions, develop, acquire, install, and utilize technology and systems for the purposes of collecting, validating, and verifying information; processing and maintaining information; and disclosing and providing information; adjusting the existing ways to comply with any previously applicable instructions and requirements which have subsequently changed; training personnel to be able to respond to a collection of information; searching data sources; completing and reviewing the collection of information; and transmitting or otherwise disclosing the information.

Courtney Kerwin,
Director, Information Engagement Division.

[FR Doc. 2024-06553 Filed 3-27-24; 8:45 am]

BILLING CODE 6560-50-P